DEPARTMENT OF ENERGY

Federal Energy Regulatory Commission

[Docket Nos. CP12-509-000; CP12-29-000]

Freeport LNG Liquefaction Project, Phase II Modification Project; Notice of Availability of Draft General Conformity Analysis

In accordance with the National Environmental Policy Act of 1969, the Clean Air Act and the Federal Energy Regulatory Commission's (Commission or FERC's) regulations, Commission staff has prepared this draft General Conformity Determination (GCD) for the Freeport LNG Liquefaction and Phase II Modification Projects (collectively called Projects) to assess the potential air quality impacts associated with the construction and operation of liquefied natural gas facilities proposed by Freeport LNG Development, L.P., FLNG Liquefaction, LLC, FLNG Liquefaction 2, LLC, and FLNG Liquefaction 3, LLC (collectively known as Freeport LNG).

The FERC staff concludes that the Project will achieve conformity in Texas and has received concurrence from the Texas Council on Environmental Quality. FERC staff will issue a final GCD to address any changes necessary and respond to comments. If no new significant comments are received by August 29, 2014, FERC staff will issue a public notice identifying this GCD as final.

Freeport LNG's proposed development is composed of multiple components in Brazoria County, Texas. The main Liquefaction Plant, located on Quintana Island, will be three propane pre-cooled mixed refrigerant trains, each with a capacity of 4.4 million metric tons per year of liquefied natural gas (LNG) for export, which equates to a total liquefaction capacity of approximately 1.8 billion cubic feet per day of natural gas. The trains and their support facilities are collectively referred to as the Liquefaction Plant.

In addition to the Liquefaction Plant described above, Freeport LNG proposes to construct various facilities, both at and adjacent to the Quintana Island Terminal and beyond Quintana Island, to support the liquefaction and export operation. These facilities include a natural gas Pretreatment Plant located about 3.5 miles north of the Terminal, and several interconnecting pipelines and utility lines called the Pipeline/Utility Line System.

In addition, for additional information on the Projects, the public can view the final environmental impact statement on our Web site at http://www.ferc.gov/industries/gas/enviro/eis/2014/06-16-14-eis.asp.

Any person wishing to comment on the draft GCD may do so. To ensure that your comments are properly recorded and considered prior to issuance of the final GCD, it is important that we receive your comments in Washington, DC on or before August 29, 2014.

For your convenience, there are three methods you can use to submit your comments to the Commission. In all instances, please reference the docket numbers (CP12-509-000, CP12-29-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

FOR FURTHER INFORMATION CONTACT: Eric Tomasi by telephone at 202-502-8097 or by email at Eric.Tomasi@ferc.gov.

Dated: July 30, 2014.
Kimberly D. Bose,
Secretary.

[FR Doc. 2014-18489 Filed 8-4-14; 8:45 am]

BILLING CODE 6717-01-P